DEPARTMENT OF ENERGY

Data Privacy and the Smart Grid: A Voluntary Code of Conduct

AGENCY: Office of Electricity Delivery and Energy Reliability, Department of Energy.

ACTION: Notice of Webinar.

SUMMARY: The Department of Energy (DOE), Office of Electricity Delivery and Energy Reliability will conduct a webinar on December 11, 2014, to conclude the development phase of a Voluntary Code of Conduct (VCC) for utilities and third parties regarding the privacy of customer energy usage data. The webinar will summarize changes made to the VCC concepts and principles as a result of public comments. In addition, a proposed implementation plan and adoption process will be presented as well as preliminary results from focus groups conducted to gauge consumer sentiment.

DATES: The webinar will occur on Thursday, December 11, 2014, from 1:00 p.m. to 4:00 p.m., Eastern Standard Time.

ADDRESSES: To register to participate in the webinar, please go to https://www1.gotomeeting.com/register/263025305. Participants will receive more detailed instructions regarding the webinar upon registering. There will be an opportunity for stakeholders viewing the webinar to ask questions or to provide comments during the webinar.

FOR FURTHER INFORMATION CONTACT: Eric Lightner, Department of Energy, Office of Electricity Delivery and Energy Reliability, 1000 Independence Ave. SW., Washington, DC 20585; telephone (202) 586-8130; email eric.lightner@hq.doe.gov.

SUPPLEMENTARY INFORMATION: On January 31, 2012, the Department of Energy, Office of Electricity Delivery and Energy Reliability (DOE OE) hosted the Smart Grid Privacy Workshop to facilitate a dialog among key industry stakeholders. In addition, on February 23, 2012, the White House released the report, Consumer Data Privacy in a Networked World: A Framework for Protecting Privacy and Promoting Innovation in the Global Digital Economy (Privacy Blueprint). The Privacy Blueprint outlines a multi-stakeholder process for developing legally-enforceable voluntary codes of conduct (VCC) to help instill consumer confidence. In response to workshop findings and in support of the Privacy Blueprint, DOE OE and the Federal Smart Grid Task Force have facilitated a multi-stakeholder process to develop a VCC for utilities and third parties providing consumer energy use services that will address privacy related to data enabled by smart grid technologies.

The DOE, through a notice published in the Federal Register on February 11, 2013, requested electricity industry stakeholders to participate in the VCC multi-stakeholder process by attending open meetings and participating in work group activities to draft the VCC principles. The primary goal of the VCC process is to provide principles of conduct for voluntary adoption by utilities and third parties. After the December meeting, the finalized code of conduct will be posted at www.smartgrid.gov/privacy so that utilities and third parties can begin exploring adoption of the VCC.

Audience: Stakeholders who may be interested in participating include—but are not limited to—utilities, consumer advocates, regulators, third party providers, building energy managers, academics, and home energy auditors.

Issued in Washington, DC on November 26, 2014.
Patricia Hoffman,
Assistant Secretary, Office of Electricity Delivery and Energy Reliability.

[FR Doc. 2014-28376 Filed 12-1-14; 8:45 am]

BILLING CODE 6450-01-P